DEPARTMENT OF TRANSPORTATION

Federal Aviation Administration

14 CFR Part 39

[Docket No. 2001-SW-07-AD]

RIN 2120-AA64

Airworthiness Directives; Eurocopter France Model AS332C, L, L1, and L2 Helicopters

AGENCY: Federal Aviation Administration, DOT.

ACTION: Notice of proposed rulemaking (NPRM).

SUMMARY: This document proposes adopting a new airworthiness directive (AD) for Eurocopter France Model AS332C, L, L1, and L2 helicopters. This proposal would require inspecting the cockpit pedal unit adjustment lever (lever) for a crack at specified time intervals by either a borescope or by a dye-penetrant inspection and replacing any cracked lever with an airworthy lever before further flight. This proposal is prompted by reports of cracks detected in the lever. The actions specified by the proposed AD are intended to prevent failure of the lever, loss of access to the brake pedals on the ground or loss of yaw control in flight, and subsequent loss of control of the helicopter.

DATES: Comments must be received on or before December 31, 2001.

ADDRESSES: Submit comments in triplicate to the Federal Aviation Administration (FAA), Office of the Regional Counsel, Southwest Region, Attention: Rules Docket No. 2001-SW-07-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Jim Grigg, Aviation Safety Engineer, FAA, Rotorcraft Directorate, Regulations Group, Fort Worth, Texas 76193-0111, telephone (817) 222-5490, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2001-SW-07-AD.” The postcard will be date stamped and returned to the commenter.

Availability of NPRMs

Any person may obtain a copy of this NPRM by submitting a request to the FAA, Office of the Regional Counsel, Southwest Region, Attention: Rules Docket No. 2001-SW-07-AD, 2601 Meacham Blvd., Room 663, Fort Worth, Texas 76137.

Discussion

The Direction Generale De L'Aviation Civile (DGAC), the airworthiness authority for France, notified the FAA that an unsafe condition may exist on Eurocopter France Model AS332 helicopters. The DGAC advises of several cases of failure of the lever, which might lead to temporary loss of access to the brake pedals during aircraft taxiing or difficulties in ensuring the yaw control of the aircraft in flight.

Eurocopter France has issued Alert Service Telex No. 67.00.19 R1, dated November 14, 2000 (Telex). The Telex specifies inspecting the lever, part number (P/N) 332A27-2344-20, for a crack by either a borescope within 50 hours time-in-service (TIS) and at intervals not to exceed 500 hours TIS or by dye-penetrant inspection within 50 hours TIS and at intervals not to exceed 1500 hours TIS. The Telex also specifies replacing any cracked lever with an airworthy lever. The DGAC has classified this Telex as mandatory and issued AD Nos. 2000-487-017(A) and 2000-486-077(A), both dated December 13, 2000, to ensure the continued airworthiness of these helicopters in France.

These helicopter models are manufactured in France and are type certificated for operation in the United States under the provisions of 14 CFR 21.29 and the applicable bilateral agreement. Pursuant to this bilateral agreement, the DGAC has kept the FAA informed of the situation described above. The FAA has examined the findings of the DGAC, reviewed all available information, and determined that AD action is necessary for products of these type designs that are certificated for operation in the United States.

We have identified an unsafe condition that is likely to exist or develop on other Eurocopter France Model AS332C, L, L1, and L2 helicopters of the same type designs registered in the United States. Therefore, the proposed AD would require inspecting the lever for a crack and replacing any unairworthy lever, P/N 332A27-2344-20, with an airworthy lever. The actions would be required to be accomplished in accordance with the Telex described previously.

The FAA estimates that 3 helicopters of U.S. registry would be affected by this proposed AD. The FAA also estimates the following requirements to accomplish the proposed AD: 2 work hours for a borescope inspection, 5 work hours for a dye-penetrant inspection, and 5 work hours to replace the lever unless accomplished during a dye-penetrant inspection in which no additional work hours would be required. The average labor rate is $60 per work hour. Required parts would cost approximately $200. Based on these figures, the total cost impact of the proposed AD on U.S. operators is estimated to be $1500 assuming an inspection using the dye-penetrant method and replacing each lever.

The regulations proposed herein would not have a substantial direct effect on the States, on the relationship between the national Government and the States, or on the distribution of power and responsibilities among the various levels of government. Therefore, it is determined that this proposal would not have federalism implications under Executive Order 13132.

For the reasons discussed above, I certify that this proposed regulation (1) Is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. 2001-SW-07-AD.

Applicability: Model AS332C, L, L1, and L2 helicopters, with a cockpit pedal unit adjustment lever (lever), part number (P/N) 332A27-2344-20, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required as indicated, unless accomplished previously.

To prevent failure of the lever, loss of access to the brake pedals on the ground or loss of yaw control in flight, and subsequent loss of control of the helicopter, accomplish the following:

(a) Inspect the lever for a crack, using either a borescope or dye-penetrant inspection, in accordance with the Accomplishment Instructions of either paragraph C.C.3. or C.C.5., as applicable, of Eurocopter France Alert Telex 67.00.19R1, dated November 14, 2000, and Figure 1 of this AD as follows:

(1) For helicopters with 4450 or more hours time-in-service (TIS), inspect the lever within the next 50 hours TIS, and thereafter at intervals not to exceed 500 hours TIS if performed by a borescope or 1500 hours TIS if performed by dye-penetrant.

(2) For helicopters with less than 4450 hours TIS, inspect the lever before accumulating 4500 hours TIS, and thereafter at intervals not to exceed 500 hours TIS if performed by a borescope or 1500 hours TIS if performed by dye-penetrant.

(3) Replace any cracked lever with an airworthy lever before further flight.

Note 2: Returning a cracked lever to the manufacturer is not required by this AD nor are you required to inspect levers held as spares.

BILLING CODE 4910-13-U

BILLING CODE 4910-13-C

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(c) Special flight permits may be issued in accordance with 14 CFR 21.197 and 21.199 to operate the helicopter to a location where the requirements of this AD can be accomplished.

Note 4: The subject of this AD is addressed in Direction Generale De L'Aviation Civile (France) AD Nos. 2000-487-017(A) and 2000-486-077(A), both dated December 13, 2000.

Issued in Fort Worth, Texas, on October 16, 2001.
Eric Bries,
Acting Manager, Rotorcraft Directorate, Aircraft Certification Service.

[FR Doc. 01-26964 Filed 10-30-01; 8:45 am]

BILLING CODE 4910-13-U